DEPARTMENT OF STATE

[Public Notice 5948]

Shipping Coordinating Committee; Notice of Meeting

The Shipping Coordinating Committee (SHC) will conduct an open meeting at 10 a.m. on Tuesday, October 16, 2007, in Room 1422 of the United States Coast Guard Headquarters Building, 2100 2nd Street SW., Washington, DC, 20593-0001. The purpose of this meeting is to prepare for the Ninety-third Session of the International Maritime Organization's (IMO) Legal Committee (LEG 93) scheduled from 22-26 October 2007.

The provisional LEG 93 agenda calls for the Legal Committee to examine the Provisions of Financial Security which includes a progress report on the work of the Joint IMO/ILO Ad Hoc Expert Working Group on Liability and Compensation regarding claims for Death, Personal Injury and Abandonment of Seafarers. To be addressed as well are the Guidelines on fair treatment of seafarers in the event of a maritime accident. The Legal Committee will also review the Report on the International Conference on the Removal of Wrecks, 2007. Also on the LEG 93 agenda are monitoring of the implementation of the HNS Convention, matters arising from the ninety-seventh and the ninety-eighth regular sessions of the Council, and the election of officers. Finally the committee will review technical cooperation activities related to maritime legislation, and the status of Conventions and other treaty instruments adopted as a result of the work of the Legal Committee, in addition to allotting time to address any other issues that may arise on the Legal Committee's work program.

Members of the public are invited to attend the SHC meeting up to the seating capacity of the room. To facilitate the building security process, those who plan to attend should call or send an e-mail two days before the meeting. Upon request, participating by phone may be an option. For further information please contact Captain Charles Michel or Lieutenant Amber Ward, at U.S. Coast Guard, Office of Maritime and International Law (CG-0941), 2100 Second Street, SW., Washington, DC 20593-0001; e-mail Amber.S.Ward@uscg.mil, telephone (202) 372-3794; fax (202) 372-3972.

Dated: September 25, 2007.
Mark W. Skolnicki,
Executive Secretary, Shipping Coordinating Committee, Department of State.

[FR Doc. E7-19527 Filed 10-2-07; 8:45 am]

BILLING CODE 4710-09-P